FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue, NW, Washington DC 20551-0001, not later than March 15, 2021.

A. Federal Reserve Bank of San Francisco (Sebastian Astrada, Director, Applications) 101 Market Street, San Francisco, California 94105-1579:

1. Hamad Abdulmohsen Almarzouq, Abeer Abdullah Alsemait, Abdulaziz Yacoub Alnafisi, Ahmad Abdulaziz Alnafisi, Aljuohara Abdulaziz Alnafisi, Dalal Abdulaziz Alnafisi, Farah Abdulaziz Alnafisi, all of Yarmook, Kuwait;

Ghaida Husain Alhusain, Duaij Khalifah Khalaf Alenezi, Samir Yaqoub Alnafisi, Suliman Khalifah Khalaf Alenezi, all of Kuwait City, Kuwait;

Abrar Khaled Alsabah, Jaber Khaled Alsabah, Ohoud Salem Alsabah, Salem Khaled Alsabah, Shaikhah Khaled Alsabah, all of Qortuba, Al Asimah, Kuwait;

Khalid Abdullah Alsumait, Shatha Abdullah Alsamait, both of Dahiya Abdullah Salem, Kuwait;

Areej Abdullah Alsamait, Shuwaikh, Kuwait; and

Issam Abdulmohsen Almarzooq, Abdullah Alsalem, Kuwait; as a group acting in concert to acquire voting shares of Greater Pacific Bancshares, and thereby indirectly acquire voting shares of Bank of Whittier, National Association, both of Whittier, California.

Board of Governors of the Federal Reserve System, February 22, 2021.
Michele Taylor Fennell,
Deputy Associate Secretary of the Board.

[FR Doc. 2021-03953 Filed 2-25-21; 8:45 am]

BILLING CODE P